DEPARTMENT OF STATE

[Public Notice 5630]

Notice of Receipt of Application for a Presidential Permit To Operate and Maintain Pipeline Facilities on the Border of the United States

Notice is hereby given that the Department of State has received an application from Plains Pipeline, L.P. (“PPLP”) for a Presidential permit, pursuant to Executive Order 13337 of April 30, 2004, to operate and maintain a pipeline for transporting petroleum products from El Paso, Texas, to Juarez, Mexico (“Juarez pipeline”), crossing the international boundary line between the United States and Mexico at a point near El Paso, Texas. On June 19, 1995, the Department of State, acting pursuant to delegated authority, issued a Presidential permit to the Chevron Pipe Line Company (“Chevron”), a Delaware corporation with its principal offices in San Francisco, California, to “construct, connect, operate and maintain” the Juarez pipeline. According to the application, PLPP acquired the Juarez pipeline from Chevron on September 1, 2006 as part of a large asset acquisition.

According to the application, PPLP is a Texas Limited Partnership engaged in the interstate and intrastate transportation of crude oil by pipeline. Also, according to the application, PPLP is an indirect wholly owned subsidiary of Plains All American Pipeline, L.P., a Delaware Limited Partnership. PPLP has, in written correspondence to the Department of State, committed to abide by the relevant terms and conditions of the permit previously issued by the Department to Chevron. Further, PPLP indicates in that correspondence that there have been no substantial changes in the operations of the Juarez pipeline from those originally authorized by the Department and further states that the future operation of the pipeline will remain essentially unchanged from that previously permitted. Therefore, in accordance with 22 CFR 161.7(b) (3) and the Department's Procedures for Issuance of a Presidential Permit Where There Has Been a Transfer of the Underlying Facility, Bridge or Border Crossing for Land Transportation (70 FR 30990, May 31, 2005), the Department of State does not intend to conduct an environmental review of the application unless information is brought to its attention that the transfer potentially would have a significant impact on the quality of the human environment.

As required by E.O. 13337, the Department of State is circulating this application to concerned Federal agencies for comment.

DATES: Interested parties are invited to submit, in duplicate, comments relative to this proposal on or before December 28, 2006 to Jeffrey Izzo, Office of International Energy and Commodities Policy, Department of State, Washington, DC 20520. The application and related documents that are part of the record to be considered by the Department of State in connection with this application are available for inspection in the Office of International Energy and Commodities Policy during normal business hours.

FOR FURTHER INFORMATION CONTACT: Jeffrey Izzo, Office of International Energy and Commodity Policy (EB/ESC/IEC/EPC), Department of State, Washington, DC 20520; or by telephone at (202) 647-1291; or by fax at (202) 647-4037.

Dated: November 20, 2006.
Stephen J. Gallogly,
Director, Office of International Energy and Commodity Policy, Department of State.

[FR Doc. E6-20181 Filed 11-27-06; 8:45 am]

BILLING CODE 4710-07-P